Proclamation 9375 of December 2, 2015

Helsinki Human Rights Day, 2015

By the President of the United States of America

A Proclamation

Four decades ago, the leaders of the United States, Canada, the Soviet Union, and countries from across a divided Europe came together to sign the Helsinki Final Act—a document reflecting the conviction that the security of states is inextricably linked to the security of their citizens' rights. This comprehensive security concept is forever enshrined in the Act and is mirrored in the subsequent statements and commitments made by the members of the Organization for Security and Cooperation in Europe (OSCE). Today, the Act continues to shine as a beacon for all who reach, often at great risk to themselves, for human dignity, for justice and tolerance, and for democratic ideals—including the notions that power is derived from the consent of the governed and that human rights and fundamental freedoms belong to all of us—no matter where we live or where we come from. On Helsinki Human Rights Day, we pledge our cooperation and mutual respect as we work to fulfill the commitments made in the Helsinki Final Act.

The 57 OSCE states that stretch across North America, Europe, and Eurasia stand stronger when we stand together, and we must defend and uphold the commitments made in Helsinki 40 years ago. Recognition of the inherent dignity and human rights of every person, respect for the sovereignty and territorial integrity of states, and restraint from the threat or use of force are essential to safeguarding a Europe and a Eurasia that are whole, free, and at peace. As the OSCE Ministerial Council convenes in Belgrade, Serbia, the United States renews its commitment to these principles and urges other member states to do the same.

Thanks to the work of governments and the contributions of civil society, we have made historic progress to advance security, democracy, and human rights across the OSCE region in the last four decades. Still, we face significant challenges. Russian aggression against its neighbors, most recently Ukraine, is contrary to the principles of respect for each nation's sovereignty and territorial integrity laid out in the Helsinki Final Act. The ability of citizens to exercise their fundamental freedoms of association, expression, and peaceful assembly is increasingly constricted in a number of participating states. Actions based on hate and prejudice remain prevalent in too many states and are too often still reflected in national policy. These attitudes will continue to obstruct democracy's success until we root them out from both our institutions and our hearts. The United States strongly condemns the heinous terrorist attacks in Ankara, as well as the bombing of the Russian plane in Egypt. And in the wake of the tragic terrorist attacks in Paris, we recommit to our fight against terrorism and violent extremism while reaffirming our adherence to our common ideals with the French people and with any free society, similar to those delineated in the Helsinki Final Act: liberté, égalité, and fraternité.

The Helsinki Final Act inspires our vision for democracy, human rights, and human dignity. It inspires a vision for open economies and shared prosperity, and a world in which states resolve disputes peacefully and work together to build and maintain trust. It is a framework that, if its commitments are upheld, can enable us to move beyond division and prejudice and toward a more democratic, prosperous, and peaceful OSCE region. Let us resolve to stand with victims of oppression and with all who yearn to exercise their human rights. Together, we can faithfully implement our shared Helsinki commitments and help forge an ever better future for all.

NOW, THEREFORE, I, BARACK OBAMA, President of the United States of America, by virtue of the authority vested in me by the Constitution and the laws of the United States, do hereby proclaim December 3, 2015, as Helsinki Human Rights Day. I call upon all the people of the United States to observe this day with appropriate ceremonies and activities reflecting our steadfast dedication to human rights and democratic values. I also call upon the governments and peoples of all other signatory states to renew their commitment to comply with the principles established and consecrated in the Helsinki Final Act.

IN WITNESS WHEREOF, I have hereunto set my hand this second day of December, in the year of our Lord two thousand fifteen, and of the Independence of the United States of America the two hundred and fortieth.

[FR Doc. 2015-30965

Filed 12-4-15; 11:15 am]

Billing code 3295-F6-P